DEPARTMENT OF HOUSING AND URBAN DEVELOPMENT

[Docket No. FR-4565-N-27]

Notice of Proposed Information Collection For the Federal National Mortgage Association and the Federal Home Loan Mortgage Corporation; Comment Request

AGENCY: Office of the Assistant Secretary for Housing, HUD.

ACTION: Notice.

SUMMARY: The proposed information collection requirement described below will be submitted to the Office of Management and Budget (OMB) for review, as required by the Paperwork Reduction Act. The Department is soliciting public comments on the subject proposal.

DATES: January 8, 2001.

ADDRESSES: Interested persons are invited to submit comments regarding this proposal. Comments should refer to the proposal by name and/or OMB Control Number and should be sent to: Wayne Eddins, Reports Management Officer, Department of Housing and Urban Development, 451 7th Street, SW., L'Enfant Plaza Building, Room 8001, Washington, DC 20410.

FOR FURTHER INFORMATION CONTACT: Allen Fishbein, Senior Advisor for Government Sponsored Enterprises Oversight, Department of Housing and Urban Development, 451 7th Street, SW., Washington, DC 20410, telephone (202) 708-3600, extension 2117, or Sandra Fostek, Office of Government Sponsored Enterprises Oversight, at (202) 708-2224, extension 2233 (these are not toll-free numbers) for copies of available information.

SUPPLEMENTARY INFORMATION: The Department is submitting the proposed information collection to OMB for review, as required by the Paperwork Reduction Act of 1995 (44 U.S.C. Chapter 35, as amended).

This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title of Proposal: Regulation of the Federal National Mortgage Association (Fannie Mae) and the Federal Home Loan Mortgage Corporation (Freddie Mac).

OMB Control Number, if applicable: 2502-0514.

Description of the need for the information and proposed use: This notice requests a revision of a currently approved collection to accommodate additional data requirements necessitated by HUD's recent publication of a new implementing regulation to the Federal Housing Enterprises Financial Safety and Soundness Act of 1992 (FHEFSSA). On October 31, 2000, HUD published a rule at 24 CFR Part 81, to become effective January 1, 2001, which increased the levels of required affordable housing goal performance for Fannie Mae and Freddie Mac (the GSEs). The rule also implemented certain changes to HUD's counting rules relative to how mortgages will be credited towards the housing goals and provided special incentives whereby the GSEs could earn additional housing goals credit for certain loan purchase activities. HUD's collection of information on the GSEs' business activities is needed to measure and monitor their compliance with statutorily mandated housing goals; to ensure the GSEs' compliance with counting rules, including the exclusion of high cost, predatory loans, from eligibility for goals credit; to foster a continuing dialogue between HUD, the GSEs, Congress, and the public on the activities of the GSEs with respect to affordable housing and underserved mortgage market issues; and to improve the operating of the housing finance market.

In accordance with HUD's regulation issued in 1995, the GSEs submit Quarterly Mortgage Reports, Annual Housing Activities Reports, Periodic Reports, and Other Information Analyses. This reporting remains unchanged in HUD's recently published regulation.

The mid-year second quarter Mortgage Report and the year-end Annual Mortgage Activities Report also must include year-to-date computerized loan level data. In order to accommodate the counting rule changes in HUD's new regulation, HUD proposes to increase its mid-year and year-end computerized loan level data collection requirement by about 36 percent over requirements imposed during the reporting period 1996-1999. The 36 percent increase includes data fields that are counted twice because the same data is collected from both single family and multifamily data sources. This action represents the first increase in HUD's data collection requirements since publication of the 1995 final rule. These new data collection requirements will enable HUD to monitor GSEs' compliance with new goals and counting conventions and will also permit HUD to make determinations relative to the effectiveness of certain incentives in promoting conventional mortgage lending activity to traditionally underserved borrowers and communities.

Agency Form Numbers, if applicable: None.

Estimation of the total number of hours needed to prepare the information collection including number of respondents, frequency of response, and hours of responses: The estimated number of respondents is 2, the total annual responses are approximately 87 reports, and the total annual hours of all responses, including reports and data collection, are estimated at 5,697 hours.

Status of the proposed information collection: Revision of a currently approved collection.

Authority: The Paperwork Reduction Act of 1995, 44 U.S.C., Chapter 35, as amended.

Dated: October 31, 2000.
William C. Apgar,
Assistant Secretary for Housing-Federal Housing Commissioner.

[FR Doc. 00-28590 Filed 11-7-00; 8:45 am]

BILLING CODE 4210-27-M